DEPARTMENT OF COMMERCE

National Oceanic and Atmospheric Administration

RIN 0648-XA578

Pacific Fishery Management Council; Public Meeting

AGENCY: National Marine Fisheries Service (NMFS), National Oceanic and Atmospheric Administration (NOAA), Commerce.

ACTION: Notice of a public meeting.

SUMMARY: The groundfish project team responsible for drafting and analyzing the 2013-14 harvest specification and management measures for the Pacific Fishery Management Council (Council) will hold a working meeting, which is open to the public.

DATES: The project team meeting will be held Tuesday, August 16, 2011, from 1 p.m. until business for the day is completed.

ADDRESSES: The project team meeting will be held in Portland, Oregon at the Pacific Fishery Management Council, Large Conference Room, 7700 NE Ambassador Place, Suite 101, Portland, OR 97220-1384.

Council address: Pacific Fishery Management Council, 7700 NE Ambassador Place, Suite 101, Portland, OR 97220-1384.

FOR FURTHER INFORMATION CONTACT: Ms. Kelly Ames, Groundfish Staff Officer; telephone: (503) 820-2280.

SUPPLEMENTARY INFORMATION: The primary purpose of the project team working meeting is to consider the scope of action for the 2013-14 harvest specifications and management measures based on Council action at the June 2011 meeting. Any products from the meeting will be available for Council consideration at the September meeting in San Mateo, CA. No management actions will be decided by the Project Team.

Although non-emergency issues not contained in the meeting agenda may come before the project team for discussion, those issues may not be the subject of formal project team action during this meeting. Project team action will be restricted to those issues specifically listed in this notice and any issues arising after publication of this notice that require emergency action under Section 305(c) of the Magnuson-Stevens Fishery Conservation and Management Act, provided the public has been notified of the project team's intent to take final action to address the emergency.

Special Accommodations

This meeting is physically accessible to people with disabilities. Requests for sign language interpretation or other auxiliary aids should be directed to Mr. Kris Kleinschmidt at (503) 820-2280 at least 5 days prior to the meeting date.

Dated: July 14, 2011.
Tracey L. Thompson,
Acting Director, Office of Sustainable Fisheries, National Marine Fisheries Service.

[FR Doc. 2011-18073 Filed 7-18-11; 8:45 am]

BILLING CODE 3510-22-P